LEGAL SERVICES CORPORATION

Notice of Sunshine Act Meetings of the Board of Directors and the Board's Five Committees

Times and Dates: The Legal Services Corporation Board of Directors and five of the Board's Committees will meet on April 24-25, 2009 in the order set forth in the following schedule, with each meeting commencing promptly upon adjournment of the immediately preceding meeting.

Public Observation By Telephone: Members of the public who wish to listen to the open portions of the meetings live may do so by following the telephone call-in directions given below. You are asked to keep your telephone muted to eliminate background noises. Comments from the public may from time to time be solicited by the presiding Chairman.

Call-In Directions for Open Sessions

Friday, April 24, 2009 and Saturday, April 25, 2009

• Call toll-free number: 1-800-247-9979;

• When prompted, enter the following numeric pass code: 94430083;

• When connected to the call, please “MUTE” your telephone immediately.

Meeting Schedule

Friday, April 24, 2009 | Time ¹
1. Provision for the Delivery of Legal Services Committee (“Provisions Committee”) | 2 p.m.
2. Audit Committee
3. Finance Committee
Saturday, April 25, 2009
4. Governance and Performance Review Committee | 9 a.m.
5. Operations & Regulations Committee
6. Board of Directors
¹ Please note that all times in this notice are Mountain Daylight Time.

Location: Embassy Suites Hotel, 319 SW Pine Street, Portland, OR.

Status of Meetings: Open, except as noted below.

• April 25, 2009 Board of Directors Meeting—Open, except that a portion of the meeting of the Board of Directors may be closed to the public pursuant to a vote of the Board of Directors to consider and perhaps act on reports on potential and pending litigation involving LSC. A verbatim written transcript of the session will be made. The transcript of any portions of the closed session falling within the relevant provisions of the Government in the Sunshine Act, 5 U.S.C. 552b(c)(10), and the corresponding provisions of the Legal Services Corporation's implementing regulation, 45 CFR 622.5(h), will not be available for public inspection. A copy of the General Counsel's Certification that the closing is authorized by law will be available upon request.

Matters To Be Considered

Friday, April 24, 2009

Provision for the Delivery of Legal Services Committee

Agenda

1. Approval of agenda.

2. Approval of the Committee's meeting minutes of January 30, 2009.

3. Staff Update on activities implementing the LSC Private Attorney Involvement Action Plan—Help Close the Justice Gap: Unleash the Power of Pro Bono:

• PAI Honor Roll;

• PAI Advisory Group;

• Law School Activities.

4. Staff Update on Herbert S. Garten Pilot Loan Repayment Assistance Program.

5. Staff Update on Native American Delivery and Funding—Data Analysis Status Report.

6. Staff Update on Legal Services Programs and Deferred Law Firm Associates.

7. Presentation on “Creative Approaches to Recruitment and Retention at Legal Aid Services of Oregon”.

• Tom Matsuda, Executive Director.

8. Public comment.

9. Consider and act on other business.

10. Consider and act on adjournment of meeting.

Audit Committee

Agenda

1. Approval of agenda.

2. Approval of minutes of the Committee's January 31, 2009 meeting.

3. Follow-up to FY 2008 Annual Audit references:

—Security of deposits;

—Classification of consultants;

• David Richardson, Treasurer/Comptroller;

• Vic Fortuno, General Counsel.

4. Report on solicitation for Fiscal Year 2009 outside auditor:

• Jeffrey Schanz, Inspector General.

5. Public comment.

6. Consider and act on other business.

7. Consider and act on adjournment of meeting.

Finance Committee

Agenda

1. Approval of agenda.

2. Approval of the minutes of the Committee's meeting of January 31, 2009.

3. Report on Distribution of FY 2009 Basic Field grants:

• Presentation by David Richardson, Treasurer/Comptroller.

4. Consider and act on the Consolidated Operating Budget for FY 2009 and recommend Resolution #2009-003 to the full Board:

• Presentation by David Richardson, Treasurer/Comptroller;

• Comments by Charles Jeffress, Chief Administrative Officer;

• Comments by Jeffrey Schanz, Inspector General.

5. Presentation on LSC's Financial Reports for the first six months of FY 2009:

• Presentation by David Richardson, Treasurer/Comptroller;

• Comments by Charles Jeffress, Chief Administrative Officer.

6. Consider and act on revision to FY 2010 Budget Request:

• Presentation by Jeffrey Schanz, Inspector General.

7. Report on FY 2010 appropriations process:

• Presentation by John Constance, Director, Office of Government Relations and Public Affairs.

8. Public comment.

9. Consider and act on other business.

10. Consider and act on adjournment of meeting.

Saturday, April 25, 2009

Governance and Performance Review Committee

Agenda

1. Approval of agenda.

2. Approval of minutes of the Committee's January 31, 2009 meeting.

3. Staff report on transition manual and plan.

4. Consider and act on Inspector General's memo on Review of Compliance with Sunshine Act.

5. Briefing by the Inspector General on his progress with respect to matters set out in his work plan for Fiscal Year 2009.

6. Consider and act on the annual performance review of the Corporation's Inspector General.

7. Public comment.

8. Consider and act on other business.

9. Consider and act on motion to adjourn meeting.

Operations & Regulations Committee

Agenda

1. Approval of agenda.

2. Approval of the minutes of the Committee's January 30, 2009 meeting and January 31, 2009 meeting.

3. Staff report on follow-up from January 30, 2009 presentation by grantee board chairs on the role of grantee boards of directors in grantee governance and oversight.

4. Consider and act on rulemaking petition regarding financial eligibility requirements in disaster areas:

• Public comment;

• Staff report;

• OIG comment.

5. Consider and act on Inspector General's request to delete reference in the LSC Employee Handbook to management procedures for cooperation with the OIG:

• OIG report;

• Staff comment.

6. Staff report on OIG follow-up to Management referrals of program issues identified by GAO.

7. Staff report on LSC's FOIA Function.

8. Other public comment.

9. Consider and act on other business.

10. Consider and act on adjournment of meeting.

Board of Directors

Agenda

1. Approval of agenda.

2. Approval of minutes of the Board's Open Session of January 31, 2008.

3. Chairman's Report.

4. Members' Reports.

5. President's Report.

6. Inspector General's Report.

7. Consider and act on the report of the Provision for the Delivery of Legal Services Committee.

8. Consider and act on the report of the Finance Committee.

9. Consider and act on the report of the Operations & Regulations Committee.

10. Consider and act on the report of the Audit Committee.

11. Consider and act on the report of the Governance & Performance Review Committee.

12. Report on IOLTA:

• Jonathan Asher—Executive Director, Colorado Legal Services;

• Bev Groudine—Staff Counsel to the American Bar Association's Commission on IOLTA.

13. Public comment.

14. Consider and act on whether to authorize an executive session of the Board to address items listed below under Closed Session.

Closed Session

15. Consider and act on reports on potential and pending litigation involving LSC.

16. Consider and act on other business.

17. Consider and act on motion to adjourn meeting.

CONTACT PERSON FOR INFORMATION: Katherine Ward, Executive Assistant to the Vice President & General Counsel, at (202) 295-1500.

Special Needs: Upon request, meeting notices will be made available in alternate formats to accommodate visual and hearing impairments. Individuals who have a disability and need an accommodation to attend the meeting may notify Katherine Ward, at (202) 295-1500.

Dated: April 14, 2009.
Victor M. Fortuno,
Vice President & General Counsel.

[FR Doc. E9-9060 Filed 4-16-09; 11:15 am]

BILLING CODE 7050-01-P